NATIONAL SCIENCE FOUNDATION

Proposal Review Panel for Physics; Notice of Meeting

In accordance with the Federal Advisory Committee Act (Pub. L. 92-463, as amended), the National Science Foundation announces the following meeting.

Name: Proposal Review Panel for Physics, LIGO Site Visit in Louisiana (1208).

Date and Time:

Wednesday, April 14, 2010; 8:30 a.m.-6:30 p.m.

Thursday, April 15, 2010; 8:30 a.m.-6 p.m.

Friday, April 16, 2010; 9 a.m.-12 p.m.

Place: LIGO Observatory, Livingston, Louisiana.

Type of Meeting: Partially Closed.

Contact Person: Dr. Thomas Carruthers, Program Director for LIGO, National Science Foundation, 4201 Wilson Blvd., Arlington, VA 22230. Telephone: (703) 292-7373.

Purpose of Meeting: To provide an evaluation concerning the proposal submitted to the National Science Foundation.

Agenda

Wednesday, April 14, 2010

Closed: 8:30-9, Executive Session

Open 9:15-10:15, LIGO status, accomplishments, plans

Closed: 10:30-12, Management topics

Open: 1-3, Tour and facilities maintenance

Closed: 3:00-6:30, Cybersecurity, EPO, LSC status and Executive Session

Thursday, April 15, 2010

Closed: 8:30-12, Project overview and Project Management status

Closed: 1:30-2:45, Technical Progress, Development, R&D support

Closed: 5:30-6, Executive Session

Friday, April 16, 2010

Closed: 9-12, Executive Session, report writing, Close Out report

Reason for Closing: The proposal contains proprietary or confidential material including technical information; financial data, such as salaries; and personal information concerning individuals associated with the proposals. These matters are exempt under 5 U.S.C. 552b(c) and (6) of the Government in the Sunshine Act.

Dated: March 23, 2010.
Susanne Bolton,
Committee Management Officer.

[FR Doc. 2010-6803 Filed 3-26-10; 8:45 am]

BILLING CODE 7555-01-P